NATIONAL TRANSPORTATION SAFETY BOARD

Sunshine Act Meetings

TIME AND DATE: 9:30 a.m., Tuesday, October 17, 2017

PLACE: NTSB Conference Center, 429 L'Enfant Plaza SW., Washington, DC 20594.

STATUS: The one item is open to the public.

MATTERS TO BE CONSIDERED:

56985 Aviation Accident Report: Impact with Power Lines, Heart of Texas Hot Air Balloon Rides, Balóny Kubíček BB85Z, N2469L, Lockhart, Texas, July 30, 2016

CONTACT PERSON FOR MORE INFORMATION: News Media Contact: Telephone: (202) 314-6100.

The press and public may enter the NTSB Conference Center one hour prior to the meeting for set up and seating.

Individuals requesting specific accommodations should contact Rochelle McCallister at (202) 314-6305 or by email at Rochelle.McCallister@ntsb.gov by Wednesday, October 11, 2017.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Eric Weiss at (202) 314-6100 or by email at eric.weiss@ntsb.gov.

Dated: Thursday, August 17, 2017.
Candi R. Bing,
Federal Register Liaison Officer.

[FR Doc. 2017-20504 Filed 9-21-17; 11:15 am]

BILLING CODE 7533-01-P